DEPARTMENT OF TRANSPORTATION

Surface Transportation Board

[STB Docket Nos. AB-33 (Sub-No. 147X) and AB-406 (Sub-No. 11X)]

Union Pacific Railroad Company—Abandonment Exemption—in McPherson and Saline Counties, KS and Central Kansas Railway Limited Liability Company—Discontinuance of Service Exemption—in McPherson and Saline Counties, KS

Union Pacific Railroad Company (UP) and Central Kansas Railway Limited Liability Company (CKR) have filed a notice of exemption under 49 CFR 1152 Subpart F—Exempt Abandonments and Discontinuances of Service for UP to abandon and CKR to discontinue service over: (1) A 4.6-mile line of railroad known as the Hoisington Subdivision between milepost 491.20 near Bridgeport, KS, and milepost 495.80 near Lindsborg, KS; (2) a 10.25-mile line of railroad known as the McPherson Subdivision between milepost 534.75, near Bridgeport and milepost 545.00 near Sid, KS. Additionally, as part of the exemption, CKR also seeks to discontinue its incidental overhead trackage rights over a 6.30-mile portion of UP's trackage between milepost 545.00 near Sid, and milepost 551.30 at Salina, KS.¹ All involved line segments are located in McPherson and Saline Counties, KS. The lines traverses United States Postal Service Zip Codes 67401, 67416, and 67456.

¹ CKR was authorized to lease and operate approximately 170.7 miles of UP's rail line in addition to the incidental overhead trackage rights that it acquired in Central Kansas Railway, L.L.C.—Lease Exemption—Union Pacific Railroad Company, STB Finance Docket No. 33470 (STB served Oct. 9, 1997).

UP and CKR have certified that: (1) No local traffic has moved over the lines for at least 2 years; (2) there has been no overhead traffic on the lines during the past 2 years; (3) no formal complaint filed by a user of rail service on the lines (or by a state or local government entity acting on behalf of such user) regarding cessation of service over the lines either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment— Goshen, 360 I.C.C. 91 (1979). To address whether this condition adequately protects affected employees, a petition for partial revocation under 49 U.S.C. 10502(d) must be filed. Provided no formal expression of intent to file an offer of financial assistance (OFA) has been received, this exemption will be effective on April 16, 2000, unless stayed pending reconsideration. Petitions to stay that do not involve environmental issues ² formal expressions of intent to file an OFA under 49 CFR 1152.27(c)(2),³ and trail use/rail banking requests under 49 CFR 1152.29 must be filed by March 27, 2000. Petitions to reopen or requests for public use conditions under 49 CFR 1152.28 must be filed by April 6, 2000, with: Surface Transportation Board, Office of the Secretary, Case Control Unit, 1925 K Street, NW, Washington, DC 20423.

² The Board will grant a stay if an informed decision on environmental issues (whether raised by a party or by the Board's Section of Environmental Analysis in its independent investigation) cannot be made before the exemption's effective date. See Exemption of Out-of-Service Rail Lines, 5 I.C.C.2d 377 (1989). Any request for a stay should be filed as soon as possible so that the Board may take appropriate action before the exemption's effective date.

³ Each offer of financial assistance must be accompanied by the filing fee, which currently is set at $1000. See 49 CFR 1002.2(f)(25).

A copy of any petition filed with the Board should be sent to applicants' representatives: James P. Gatlin, Union Pacific Railroad Company, 1416 Dodge Street, Room 830, Omaha, NE 68179-0001; and Karl Morell, Ball Janik LLP, 1455 F St., NW, Washington, DC 20005.

If the verified notice contains false or misleading information, the exemption is void ab initio.

UP and CKR have filed an environmental report which addresses the effects of the abandonment and discontinuance, if any, on the environment and historic resources. The Section of Environmental Analysis (SEA) will issue an environmental assessment (EA) by March 22, 2000. Interested persons may obtain a copy of the EA by writing to SEA (Room 500, Surface Transportation Board, Washington, DC 20423) or by calling SEA, at (202) 565-1545. Comments on environmental and historic preservation matters must be filed within 15 days after the EA becomes available to the public.

Environmental, historic preservation, public use, or trail use/rail banking conditions will be imposed, where appropriate, in a subsequent decision.

Pursuant to the provisions of 49 CFR 1152.29(e)(2), UP shall file a notice of consummation with the Board to signify that it has exercised the authority granted and fully abandoned the line. If consummation has not been effected by UP's filing of a notice of consummation by March 17, 2001, and there are no legal or regulatory barriers to consummation, the authority to abandon will automatically expire.

Board decisions and notices are available on our website at “WWW.STB.DOT.GOV.”

Decided March 9, 2000.
By the Board, David M. Konschnik, Director, Office of Proceedings.
Vernon A. Williams,
Secretary.

[FR Doc. 00-6570 Filed 3-16-00; 8:45 am]

BILLING CODE 4915-00-P